FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel Operating Common Carrier Ocean Transportation Intermediary Applicants:

KCL Logistics Inc., 220 N. Electric Avenue, Alhambra, CA 91801, Officers: King O. Li, President, (Qualifying Individual), Kevin Chor K. Leung, Treasurer.

Jets Cargo LLC, 2331 S. Otis Street, Santa Ana, CA 92705, Officers:Van T. Phung, Secretary, (Qualifying Individual), Christopher T. Le, CEO.

General Logistics, Inc., 1400 NW 159th Street, Miami Gardens, FL 33169, Officers: Yelena Farber, Secretary, (Qualifying Individual), Lezek Przybylski, President.

Competition Transport Inc., 1326 Spruce Avenue, Orlando, FL 32824, Officers: Ignacio Parra, Vice President, (Qualifying Individual), William Tang, President.

Worldwide Ocean & Air Shipping Lines Inc., dba End2end Global Lines, 31-07 Stars Ave., #D, Long Island City, NY 11101, Officer: Shyam Kumar, President, (Qualifying Individual).

Weiss Rohlig USA LLC, 351 W. Touhy Avenue, Ste. 100, Des Plaines, IL 60018, Officer: Daniela Wurm, Compliance Manager, (Qualifying Individual).

Non-Vessel Operating Common Carrier and Ocean Freight Forwarder Transportation Intermediary Applicants:

AES Logistics, Inc. dba AES Worldwide dba AES Logistics, 140 SW 153rd Street, Burien, WA 98166, Officer: Robert A. Schwieger, Vice President, (Qualifying Individual).

CargoLogis USA LLC, 182-16 149th Road, Springfield Gardens, NY 11413, Officers: Melisa R. Sobalvarro, Vice President, (Qualifying Individual), Alex Epshteyn, President.

Dnipro LLC, 645 West 1st Ave., Roselle, NJ 07203, Officers:Leticia Petrov, Exp. Cus. Serv., (Qualifying Individual), Igor Pluta, President.

Zai Cargo, Inc. dba Zai Ocean Services dba Zai Container Line, 6324 NW 97th Avenue, Doral, FL 33178, Officers: Horacio Zapata, President, (Qualifying Individual).

ShinYoung Express Inc., 1490 Beachey Place, Carson, CA 90746, Officers: Jennifer H. Yun, CEO, (Qualifying Individual), Sung Hyun Yun, CFO.

Aix., Inc., 4852 Jimmy Carter Blvd., Norcross, GA 30093, Officer:Ayo M. Balogun, Dir. Of Operations, (Qualifying Individual).

K & K Express, LLC, dba K2 Logistics, 2782 Eagandale Blvd., Eagan, MN 55121, Officer: Patrick S. Young, Int'l. Opera. Manager, (Qualifying Individual).

ADP Logistics Corp., 517 W. Wrightwood Avenue, Elmhurst, IL 60128, Officers: Brian Lara, Associate V. President, (Qualifying Individual), Yinggang Chen, President.

International Logistic Services, Inc., 155-11 146th Avenue, Jamaica, NY 11434, Officers: Steven N. Leff, Vice President, (Qualifying Individual), Jean-Paul Noens, President.

ProCargo Solutions, Inc., 9414 East San Salvador Drive, Scottsdale, AZ 85258, Officers: Yeon-Hee Hwang, President, (Qualifying Individual), You-Sun Hwang, Vice President.

Ocean Line Logistics Inc., 582 W. Huntington Drive, Arcadia, CA 91007, Officers: Wei Jiang, Vice President, (Qualifying Individual), Peixin Li, CEO.

Arrowpoint Logistics, Inc., 3803 S. 250 W., Logan, UT 84321, Officer:Daniel M. Bryan, President, (Qualifying Individual).

Air Cargo Sales, Inc., 429 Moon Clinton Road, Coraopolis, PA 15108, Officers: Debbrah A. Yarosz, Import Coordinator, (Qualifying Individual), George C. Shearer, President.

Oceania, LLC, 52 Butler Street, Elizabeth, NJ 07206, Officers: Susan Howard, Vice President, (Qualifying Individual), James M. Allocca, President.

MSFW, Inc., 500 E. Carson Plaza Drive, Carson, CA 90746, Officers:Ki S. Yoon, Director/Secretary, (Qualifying Individual), Robert Sang Bong Choung, President.

AGL Logistics Inc., 1255 Corporate Center Drive, Monterey Park, CA 91754, Officer: Lai Wa Chun, President, (Qualifying Individual).

USCOM Logistics, Inc., 335 W. Artesia Blvd., Compton, CA 90220, Officers: Young C. Joh, Vice President, (Qualifying Individual), Chung J. Park, President.

Able Freight Services, Inc., 5340 West 104th Street, Los Angeles, CA 90045, Officers: Myungsil Y. Francis, Vice President, (Qualifying Individual), Scott I. Murray, President.

L & Z Multiservices, Inc., 2621 W. Flagler Street, Miami, FL 33135, Officers: Luis Calcedo, President, (Qualifying Individual), Zulema Calcedo, Vice President.

UKO Logis Inc., 879 W. 100th Street, Gardena, CA 90248, Officer: Jae Kim, CFO, (Qualifying Individual).

Ocean Freight Forwarder—Ocean Transportation Intermediary Applicants:

Scanwell Logistics (SFO) Inc., 400 Oyster Pt. Blvd., Ste. 135, So. San Francisco, CA 94080, Officers: Gino Ming Tsung Lin, President, (Qualifying Individual), Adam Hassan, Chairman of Board.

Min America Inc., 11357 Nuckols Road, Glen Allen, VA 23059, Officer:Mohammad K. Al-Salom, Partner, (Qualifying Individual).

CMI USA Inc., 184 Hebberd Avenue, Paramus, NJ 07652, Officers:Elie M. Ibrahim, President, (Qualifying Individual), Rita Dabragh, Vice President.

Dated: February 6, 2009.
Karen V. Gregory,
Secretary.

[FR Doc. E9-2925 Filed 2-10-09; 8:45 am]

BILLING CODE 6730-01-P